DEPARTMENT OF THE TREASURY

Internal Revenue Service

26 CFR Part 1

[REG-108761-22]

RIN 1545-BQ58

Charitable Remainder Annuity Trust Listed Transaction; Hearing Cancellation

AGENCY: Internal Revenue Service (IRS), Treasury.

ACTION: Cancellation of a notice of public hearing on a proposed rulemaking and notice of public hearing.

SUMMARY: This document cancels a public hearing on proposed regulations that would identify certain charitable remainder annuity trust (CRAT) transactions and substantially similar transactions as listed transactions, a type of reportable transaction.

DATES: The public hearing scheduled for July 11, 2024, at 10 a.m. ET is cancelled.

FOR FURTHER INFORMATION CONTACT: Vivian Hayes of the Publications and Regulations Section, Associate Chief Counsel (Procedure and Administration) at (202) 317-6901 (not a toll-free number).

SUPPLEMENTARY INFORMATION: A notice of proposed rulemaking and a notice of public hearing that appeared in the Federal Register on March 25, 2024 (89 FR 20569) announced that a public hearing being held in person and by teleconference was scheduled for July 11, 2024, at 10 a.m. ET. The subject of the public hearing is under 26 CFR part 1.

The public comment period for these regulations expired on May 24, 2024. The notice of proposed rulemaking and notice of public hearing instructed those interested in testifying at the public hearing to submit a request to testify and an outline of the topics to be addressed. We did not receive a request to testify at the Public Hearing. Therefore, the public hearing scheduled for July 11, 2024, at 10 a.m. ET is cancelled.

Oluwafunmilayo A. Taylor,
Section Chief, Publications and Regulations Section, Associate Chief Counsel, (Procedure & Administration).

[FR Doc. 2024-13456 Filed 6-18-24; 8:45 am]

BILLING CODE 4830-01-P